INTERNATIONAL TRADE COMMISSION

[Investigation Nos. 731-TA-313, 314, 317, and 379 (Third Review)]

Brass Sheet and Strip From France, Germany, Italy, and Japan

Determination

On the basis of the record ¹ developed in the subject five-year reviews, the United States International Trade Commission (Commission) determines, pursuant to section 751(c) of the Tariff Act of 1930 (19 U.S.C. 1675(c)), that revocation of the antidumping duty orders on brass sheet and strip from France, Germany, Italy, and Japan would be likely to lead to continuation or recurrence of material injury to an industry in the United States within a reasonably foreseeable time.²

¹ The record is defined in sec. 207.2(f) of the Commission's Rules of Practice and Procedure (19 CFR 207.2(f)).

² Commissioner Daniel R. Pearson dissenting with respect to the antidumping duty order on France.

Background

The Commission instituted these reviews on March 1, 2011 (76 FR 11509) and determined on June 6, 2011 that it would conduct full reviews (76 FR 35910, June 20, 2011). Notice of the scheduling of the Commission's reviews and of a public hearing to be held in connection therewith was given by posting copies of the notice in the Office of the Secretary, U.S. International Trade Commission, Washington, DC, and by publishing the notice in the Federal Register on September 12, 2011 (76 FR 58299). The hearing was held in Washington, DC, on January 31, 2012, and all persons who requested the opportunity were permitted to appear in person or by counsel.

The Commission transmitted its determination in these reviews to the Secretary of Commerce on April 13, 2012. The views of the Commission are contained in USITC Publication 4313 (April 2012), entitled Brass Sheet and Strip from France, Germany, Italy, and Japan: Investigation Nos. 731-TA-313, 314, 317, and 379 (Third Review).

By order of the Commission.
Issued: April 13, 2012.
James R. Holbein,
Secretary to the Commission.

[FR Doc. 2012-9463 Filed 4-18-12; 8:45 am]

BILLING CODE 7020-02-P